DEPARTMENT OF TRANSPORTATION

Federal Highway Administration

Environmental Impact Statement; Chittenden County, VT

AGENCY: Federal Highway Administration (FHWA), DOT.

ACTION: Notice of intent.

SUMMARY: The FHWA is issuing this notice to advise the public that an environmental impact statement will be prepared for a proposed transportation project in Chittenden County, Vermont.

FOR FURTHER INFORMATION CONTACT: Kenneth R. Sikora, Jr., Environmental Program Manager, Federal Highway Administration, PO Box 568, Montpelier Vermont 05601, Telephone: (802) 828-4433.

SUPPLEMENTARY INFORMATION: The FHWA, in cooperation with the Vermont Agency of Transportation (VTrans), will prepare an environmental impact statement (EIS) on a proposal to improve the transportation system from Interstate Route I-89 to the Towns of Williston and Essex and the Village of Essex Junction. The project study area is approximately 4 miles in length, and includes the corridor that would have been served by the previously proposed Chittenden County Circumferential Highway Project Construction Segments A and B. The Circumferential Highway Construction Segments G-J included in the Metropolitan Long Range Transportation Plan are not part of this proposed transportation project. The Circumferential Highway Construction Segments C-F have been partially constructed and open to traffic.

The EIS will identify transportation needs and deficiencies in the project study area, including mobility, access, system continuity, and safety. The range of transportation alternatives to be evaluated in the EIS will not be restricted to previously considered alternatives or the conclusions of previous studies. In addition, the EIS will specifically address the relationship between transportation and land use in and around the project study area.

The EIS will evaluate potential alternative transportation improvements to meet the existing and future demands on the transportation system serving the aforementioned communities. Potential alternatives and combinations thereof will include but are not limited to (1) taking no action, i.e., the No-Build Alternative; (2) strategies to better manage transportation demand; (3) improving public transportation facilities and services: (4) improving existing roadways, pedestrian walkways, and bikeways; and (5) constructing a new roadway connection between Route I-89 and Vermont Route 289 and other roadways. Design variations of potential alternatives will also be studied, as appropriate.

The EIS will be initiated with a scoping process. The scoping process will include a program of public outreach and agency coordination will be conducted over the next several months in order to elicit input on project purpose and need, potential alternatives, significant and insignificant issues, and collaborative methods for analyzing transportation alternatives and environmental impacts. As part of scoping, VTrans plans to hold several public meetings at different locations in Chittenden County and to contact and meet with local, state, and federal agencies and officials as well as private individuals and organizations concerned with the project. In addition, a public hearing will be held in connection with the circulation of the draft EIS. Public notice will be given of the time and place of the meetings and hearing.

The information gained during the scoping process will be widely disseminated and used to guide the development of the EIS. An internet website and other communication media will be developed early in the scoping process and used to provide public information and to receive comments. All comments and input received during the scoping and subsequent steps of the EIS process will be considered and documented. Beginning with scoping, continuous and regular public involvement and agency coordination will continue throughout the preparation of the EIS.

(Catalog of Federal Domestic Assistance Program Number 20.205 Highway Planning and Construction. The regulations implementing Executive Order 12372 regarding intergovernmental consultation on Federal programs and activities apply to this program)
Issued on: November 19, 2004.
Charles E. Basner,
Division Administrator, Montpelier, Vermont.

[FR Doc. 04-26192 Filed 11-24-04; 8:45 am]

BILLING CODE 4910-22-M